DEPARTMENT OF AGRICULTURE

Forest Service

Notice of Proposed New Fee Site; Federal Lands Recreation Enhancement Act

AGENCY: Flathead National Forest, Forest Service, USDA.

ACTION: Notice of new fee site.

SUMMARY: The Flathead National Forest is proposing to charge a new fee at the Lindbergh Lake Campground. Funds generated at the site will be used for the operation and maintenance, upkeep of facilities, and improvements as feasible. This fee is only proposed and will be determined upon further analysis and public comment.

DATES: Send any comments about these fee proposals by August 13, 2018 so comments can be compiled, analyzed, and shared with the Western Montana Bureau Land Management (BLM) Resource Advisory Council. The effective date of implementation of this fee would be no earlier than six months after publication of this notice.

ADDRESSES: Chip Weber, Forest Supervisor, Flathead National Forest, 650 Wolfpack Way, Kalispell, MT 59901 or Email to cweber@fs.fed.us.

FOR FURTHER INFORMATION CONTACT: Chris Prew, Recreation Program Manager, Flathead National Forest, at 406-758-3538 or chrisprew@fs.fed.us. Information about proposed fee changes can also be found at www.fs.usda.gov/goto/r1recfee.

SUPPLEMENTARY INFORMATION: The Federal Recreation Lands Enhancement Act (Title VII, Pub. L. 108-447) directed the Secretary of Agriculture to publish a six month advance notice in the Federal Register whenever new recreation fee areas are established. This new fee will be reviewed by the Western Montana BLM Resource Advisory Council prior to a final decision and implementation.

The Flathead National Forest is proposing to charge a $10 per night fee at Lindbergh Lake Campground. Lindbergh Lake Campground offers breathtaking views of the Mission and Swan Mountain Ranges and has a concrete boat ramp for ease of lake access and enjoyment. The lake offers boating, swimming, and fishing opportunities and is located in close proximity to the Mission Mountains Wilderness, which offers excellent hiking opportunities. The campground has 21 individual camp sites and features a new toilet facility and other site improvements.

A business analysis of the proposed new fee site has shown that people desire having a variety of recreation opportunities and experiences on the Flathead National Forest, such as lake-orientated developed campgrounds. A market analysis of surrounding recreation sites with similar amenities indicates that the proposed fee is comparable and reasonable.

Dated: July 5, 2018.
Glenn Casamassa,
Associate Deputy Chief, National Forest System.

[FR Doc. 2018-14911 Filed 7-11-18; 8:45 am]

BILLING CODE P